DEPARTMENT OF THE INTERIOR

United States Geological Survey

[GX15EN05ESB0500]

Advisory Committee on Climate Change and Natural Resource Science

AGENCY: U.S. Geological Survey, Interior.

ACTION: Meeting notice.

SUMMARY: In accordance with the requirements of the Federal Advisory Committee Act, 5 U.S.C. App. 2, we announce that the Advisory Committee on Climate Change and Natural Resource Science will hold a meeting.

DATES: Meeting: The meeting will be held as follows: Tuesday, April 28, 2015, from 9:00 a.m. to 5:15 p.m.; and Wednesday, April 29, 2015 from 9:00 a.m. to 2:30 p.m. (All times Central Daylight Time).

ADDRESSES: National Weather Center, Don Nickels Conference Room, 3rd Floor (NWC3910 A/B), 120 David L. Boren Blvd., Norman, OK.

FOR FURTHER INFORMATION CONTACT: Mr. Robin O'Malley, Designated Federal Officer, Policy and Partnership Coordinator, National Climate Change and Wildlife Science Center, U.S. Geological Survey, 12201 Sunrise Valley Drive, Mail Stop 400, Reston, VA 20192, romalley@usgs.gov, (703) 648-4086.

SUPPLEMENTARY INFORMATION: Chartered in May 2013, the Advisory Committee on Climate Change and Natural Resource Science (ACCCNRS) advises the Secretary of the Interior on the establishment and operations of the U.S. Geological Survey (USGS) National Climate Change and Wildlife Science Center (NCCWSC) and the Department of the Interior (DOI) Climate Science Centers (CSCs). ACCCNRS members represent federal agencies; state and local governments; American Indian tribes and other Native American entities; nongovernmental organizations; academic institutions; and the private sector. Duties of the committee include: (A) Advising on the contents of a national strategy identifying key science priorities to advance the management of natural resources in the face of climate change; (B) advising on the nature, extent, and quality of relations with and engagement of key partners at the regional/CSC level; (C) advising on the nature and effectiveness of mechanisms to ensure the identification of key priorities from management partners and to effectively deliver scientific results in useful forms; (D) advising on mechanisms that may be employed by the NCCWSC to ensure high standards of scientific quality and integrity in its products, and to review and evaluate the performance of individual CSCs, in advance of opportunities to re-establish expiring agreements; and (E) coordinating as appropriate with any Federal Advisory Committee established for the DOI Landscape Conservation Cooperatives. More information about the ACCCNRS is available at https://nccwsc.usgs.gov/acccnrs.

Meeting Agenda: The objectives of this meeting are to: (1) Provide input on the NCCWSC Science Agenda and national science priorities; (2) Learn about the activities of the South Central Climate Science Center's (SC CSC) and how they address ACCCNRS recommendations; (3) Review and provide input on program evaluation categories for the NCCWSC; and (4) Review the issue(s) associated with downscaling identified by the Downscaling Work Group and determine if the Committee would like to make recommendations related to these issues. The final agenda will be posted on https://nccwsc.usgs.gov/acccnrs prior to the meeting.

Public Input: All Committee meetings are open to the public. Interested members of the public may present, either orally or through written comments, information for the Committee to consider during the public meeting. The public will have approximately 15 minutes to make comment on both Tuesday, April 28, 2015, from 5:00 p.m. to 5:15 p.m. and Wednesday, April 29, 2015 from 12:15 p.m. to 12:30 p.m. (all times Central Daylight Time).

Individuals or groups requesting to make comment at the public Committee meeting will be limited to 2 minutes per speaker. The Committee will endeavor to provide adequate opportunity for all speakers, within available time limits. Speakers who wish to expand upon their oral statements, or those who had wished to speak, but could not be accommodated during the public comment period, are encouraged to submit their comments in written form to the Committee after the meeting.

Written comments should be submitted, prior to, during, or after the meeting, to Mr. Robin O'Malley, Designated Federal Officer, by U.S. Mail to: Mr. Robin O'Malley, Designated Federal Officer, U.S. Geological Survey, 12201 Sunrise Valley Drive, Mail Stop 400, Reston, VA 20192, or via email, at romalley@usgs.gov.

The meeting is open to the public but participants must register and will be issued a name badge. When entering National Weather Center Building please be prepared to show government issued photo identification and to pass through a metal detector. Space is limited, so all interested in attending should pre-register. Please submit your name, email address and phone number to Lisa LaCivita via email at nccwsc@usgs.gov, or phone at (703) 648-4088, by close of business on April 12, 2015. Persons with disabilities requiring special services, such as an interpreter for the hearing impaired, should also contact Lisa LaCivita at least seven calendar days prior to the meeting. We will do our best to accommodate those who are unable to meet this deadline.

Robin O'Malley,
Designated Federal Officer.

[FR Doc. 2015-07820 Filed 4-3-15; 8:45 am]

BILLING CODE 4311-AM-P